DEPARTMENT OF LABOR

Employment And Training Administration

Announcement Regarding the Virgin Islands Triggering “on” Tier Three of Emergency Unemployment Compensation 2008 (EUC08).

AGENCY: Employment and Training Administration, Labor.

ACTION: Notice.

SUMMARY: Announcement regarding the Virgin Islands triggering “on” Tier Three of Emergency Unemployment Compensation 2008 (EUC08).

Public law 111-312 extended provisions in public law 111-92 which amended prior laws to create a Third and Fourth Tier of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp.

Based on data published July 8, 2011, by the Bureau of Labor Statistics, the following trigger change has occurred for the Virgin Islands' EUC08 program:

• The estimated three month average, seasonally adjusted total unemployment rate for the Virgin Islands rose to meet or exceed the 6.0% threshold to trigger “on” in Tier Three of the EUC 2008 program. The payable period in Tier Three for the Virgin Islands began July 24, 2011, and claimants there will be eligible for up to an additional 13 weeks of benefits.

Information for Claimants

The duration of benefits payable in the EUC program, and the terms and conditions under which they are payable, are governed by public laws 110-252, 110-449, 111-5, 111-92, 111-118, 111-144, 111-157, 111-205 and 111-312, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by e-mail: gibbons.scott@dol.gov.

Signed in Washington, DC, this 3rd day of August, 2011.
Jane Oates,
Assistant Secretary, Employment and Training Administration.

[FR Doc. 2011-20109 Filed 8-8-11; 8:45 am]

BILLING CODE 4510-FW-P